DEPARTMENT OF ENERGY

Federal Energy Regulatory Commission

Combined Notice of Filings

Take notice that the Commission has received the following Natural Gas & Oil Pipeline Rate and Refund Report filings:

Filings Instituting Proceedings

Docket Numbers: RP23-778-000.

Applicants: Discovery Gas Transmission LLC

Description: § 4(d) Rate Filing: Discovery Gas Transmission LLC's Fuel, Lost and Unaccounted for Filing to be effective 7/1/2023.

Filed Date: 5/24/23.

Accession Number: 20230524-5006.

Comment Date: 5 p.m. ET 6/5/23.

Docket Numbers: RP23-779-000.

Applicants: Iroquois Gas Transmission System, L.P.

Description: § 4(d) Rate Filing: 5.24.23 Negotiated Rates—Freepoint Commodities LLC R-7250-49 to be effective 6/1/2023.

Filed Date: 5/24/23.

Accession Number: 20230524-5011.

Comment Date: 5 p.m. ET 6/5/23.

Docket Numbers: RP23-780-000.

Applicants: Iroquois Gas Transmission System, L.P.

Description: § 4(d) Rate Filing: 5.24.23 Negotiated Rates—Twin Eagle Resource Management, LLC R-7300-27 to be effective 6/1/2023.

Filed Date: 5/24/23.

Accession Number: 20230524-5014.

Comment Date: 5 p.m. ET 6/5/23.

Docket Numbers: RP23-781-000.

Applicants: Iroquois Gas Transmission System, L.P.

Description: § 4(d) Rate Filing: 5.24.23 Negotiated Rates—Mercuria Energy America, LLC H-7540-89 to be effective 6/1/2023.

Filed Date: 5/24/23.

Accession Number: 20230524-5015.

Comment Date: 5 p.m. ET 6/5/23.

Docket Numbers: RP23-782-000.

Applicants: Iroquois Gas Transmission System, L.P.

Description: § 4(d) Rate Filing: 5.24.23 Negotiated Rates—Mercuria Energy America, LLC R-7540-25 to be effective 6/1/2023.

Filed Date: 5/24/23.

Accession Number: 20230524-5017.

Comment Date: 5 p.m. ET 6/5/23.

Docket Numbers: RP23-783-000.

Applicants: Iroquois Gas Transmission System, L.P.

Description: § 4(d) Rate Filing: 5.24.23 Negotiated Rates—Emera Energy Services, Inc. R-2715-59 to be effective 6/1/2023.

Filed Date: 5/24/23.

Accession Number: 20230524-5019.

Comment Date: 5 p.m. ET 6/5/23.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP23-655-000.

Applicants: Trailblazer Pipeline Company LLC.

Description: Refund Report: TPC 2023 Annual L&U Cash-Out Refund Report to be effective N/A.

Filed Date: 5/23/23.

Accession Number: 20230523-5178.

Comment Date: 5 p.m. ET 6/5/23.

Any person desiring to protest in any the above proceedings must file in accordance with Rule 211 of the Commission's Regulations (18 CFR 385.211) on or before 5 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 24, 2023.
Debbie-Anne A. Reese,
Deputy Secretary.

[FR Doc. 2023-11502 Filed 5-30-23; 8:45 am]

BILLING CODE 6717-01-P